DEPARTMENT OF AGRICULTURE

Forest Service

Southern Region Recreation Resource Advisory Committee

AGENCY: Forest Service, USDA.

ACTION: Notice; solicitation of nominees to the Southern Region Recreation Resource Advisory Committee.

SUMMARY: In accordance with the Federal Advisory Committee Act of 1972 (FACA), the United States Department of Agriculture (USDA) announces solicitation for nominations to fill four vacancies on the Southern Region Recreation Resource Advisory Committee (RRAC). Members will be appointed by the Secretary of Agriculture and serve a three-year term.

DATES: Applications must be received on or before October 1, 2018. This timeframe may be extended if officials do not receive applications for needed positions. Nominations must contain a completed application packet that includes the nominee's name, a narrative statement on each Nominee Evaluation Criteria, and completed Form AD-755, Advisory Committee or Research and Promotion Background Information. The package must be sent to the address below.

ADDRESSES: Interested persons may submit applications to the Southern Region Recreation RAC by U.S. Mail: C. Mitchell, Ouachita National Forest, P.O. Box 1270, Hot Springs, AR 71902, or Express Delivery: C. Mitchell, Ouachita National Forest, 100 Reserve Street, Hot Springs, AR 71901.

FOR FURTHER INFORMATION CONTACT: Anyone wanting further information regarding this request for nominations may contact the Recreation Resource Advisory Committee Coordinator Tiffany Williams, Southern Region, USDA Forest Service, 1720 Peachtree Road NW, Atlanta, GA 30309; by phone at (404) 347-2769, or by email at r8_rrac@fs.fed.us.

SUPPLEMENTARY INFORMATION:

Background

The Federal Lands Recreation Enhancement Act (REA), directs the Secretary of Agriculture, the Secretary of the Interior, or both to establish Recreation RACs, or use existing advisory committees to perform the duties of Recreation RACs, in each State or region for Federal recreation lands and waters managed by the Forest Service or the Bureau of Land Management (BLM). These committees make recreation fee program recommendations on implementing or eliminating standard amenity fees; expanded amenity fees; noncommercial, individual special recreation permit fees; expanding or limiting the recreation fee program; and fee-level changes.

Recreation Resource Advisory Committee Membership Recruitment

Potential nominees must represent the following forest-related interests:

Category One: Five people who represent recreation users, one in each position: Camping, summer motorized, summer non-motorized, wildlife and nature viewing/viewing of interpretive sites and hunting and fishing. The target for recruitment for 2018 is for one committee member to represent camping and one to represent non-motorized recreation.

Category Two: Three people who represent interest groups that include: Outfitter and guides (two positions), and local environmental groups (one position). The target for recruitment for 2018 is for one committee member to represent local environmental groups.

Category Three: Three people, one in each position: State tourism official, a person who represents affected local government interests, and a person who represents affected Indian tribes' issues. The target for recruitment for 2018 is for one committee member to represent local government.

Completed nomination forms are due by Monday, October 1, 2018.

Members will be appointed for three-year terms based on the following criteria: Which interest groups they represent and how well they are qualified to represent that group; Why they want to serve on the committee and what they can contribute; Their past experience in working successfully as part of a collaborative group.

Nominees' demonstrated ability to represent minorities, women and persons with disabilities will be considered in membership selections. U.S. Department of Agriculture policies regarding equal opportunity will be followed.

Committee members will receive travel and per diem expenses for regularly scheduled meetings; however, they will not receive compensation.

Nominations and Application Information for the Southern Region Recreation RAC

The appointment of members to the Southern Region Recreation RAC will be made by the Secretary of Agriculture. Any individual or organization may nominate one or more qualified persons to represent the vacancies listed above. To be considered for membership, nominees must—

1. Identify what interest group they would represent and how they are qualified to represent that group;

2. State why they want to serve on the committee and what they can contribute;

3. Show their past experience in working successfully as part of a collaborative group;

4. Complete Form AD-755.

Application packets are being accepted at this time for the vacant positions on the RRAC. Application packets, including evaluation criteria and the AD-755 form, are available at http://www.fs.usda.gov/detail/r8/workingtogether/advisorycommittees/?cid=stelprdb5358339 or by contacting the persons identified in this notice. Nominees must submit all documents to the appropriate regional contact. All nominations will be vetted by the Agency.

Equal opportunity practices, in line with USDA policies, will be followed in all appointments to the Southern Region Recreation RACs. To ensure that the recommendations of the Recreation RACs have taken into account the needs of the diverse groups served by the Departments, membership should include, to the extent practicable, individuals with demonstrated ability to represent all racial and ethnic groups, women and men, and persons with disabilities.

Recreation RAC members serve without pay but are reimbursed for travel and per diem expenses for regularly scheduled committee meetings. All Recreation RAC meetings are open to the public and an open public forum is part of each meeting. Meeting dates and times will be determined by agency officials in consultation with the Recreation RAC members.

Dated: August 8, 2018.
Glenn P. Casamassa,
Associate Deputy Chief, National Forest System.

[FR Doc. 2018-18553 Filed 8-27-18; 8:45 am]

BILLING CODE 3411-15-P